DEPARTMENT OF ENERGY

Federal Energy Regulatory Commission

Combined Notice of Filings #1

Take notice that the Commission received the following electric rate filings:

Docket Numbers: ER10-1597-006; ER10-1620-006; ER10-1624-006; ER10-1625-006; ER10-1626-006.

Applicants: Kiowa Power Partners, LLC, Tenaska Alabama II Partners, L.P., Tenaska Gateway Partners, Ltd., Tenaska Georgia Partners, L.P., Tenaska Virginia Partners, L.P.

Description: Notification of Change in Status of the Tenaska MBR Sellers, et al.

Filed Date: 7/29/16.

Accession Number: 20160729-5241.

Comments Due: 5 p.m. ET 8/19/16.

Docket Numbers: ER10-2641-025; ER10-2663-025; ER10-2881-025; ER10-2882-026; ER10-2883-025; ER10-2884-025; ER10-2885-025; ER10-2886-026; ER13-1101-021; ER13-1541-020; ER14-661-012; ER14-787-014; ER15-54-006; ER15-55-006; ER15-647-003; ER15-1475-007; ER15-2191-002; ER15-2453-002; ER15-2593-006; ER16-452-006; ER16-705-004; ER16-706-004; ER16-1154-004.

Applicants: Oleander Power Project, LP, Southern Company-Florida LLC, Alabama Power Company, Southern Power Company, Georgia Power Company, Mississippi Power Company, Gulf Power Company, Southern Turner Cimarron I, LLC, Spectrum Nevada Solar, LLC, Campo Verde Solar, LLC, SG2 Imperial Valley LLC, Macho Springs Solar, LLC, Lost Hills Solar, LLC, Blackwell Solar, LLC, Kay Wind, LLC, North Star Solar, LLC, Grant Wind, LLC, Passadumkeag Windpark, LLC, Desert Stateline LLC, RE Garland LLC, RE Tranquillity LLC, RE Garland A LLC, Parrey, LLC.

Description: Notification of Non-Material of Change in Status of Oleander Power Project, Limited Partnership, et al.

Filed Date: 7/29/16.

Accession Number: 20160729-5238.

Comments Due: 5 p.m. ET 8/19/16.

Docket Numbers: ER10-2759-005; ER10-2732-011; ER10-2733-011; ER10-2734-011; ER10-2736-011; ER10-2737-011; ER10-2741-011; ER10-2749-011; ER10-2752-011; ER12-2492-007; ER12-2493-007; ER12-2494-007; ER12-2495-007; ER12-2496-007; ER14-264-002; ER10-2631-005; ER10-1437-004; ER13-815-003.

Applicants: Bridgeport Energy LLC, Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Maine, Rumford Power Inc., Tampa Electric Company, Tiverton Power LLC.

Description: Notice of Change in Status of the Emera Entities, et al.

Filed Date: 8/1/16.

Accession Number: 20160801-5061.

Comments Due: 5 p.m. ET 8/22/16.

Docket Numbers: ER11-2855-021; ER11-2856-021; ER11-2857-021; ER10-2488-013; ER10-2722-006; ER10-2787-005; ER12-2037-007; ER10-2532-007; ER13-343-006; ER13-342-011.

Applicants: Avenal Park LLC, Sand Drag LLC, Sun City Project LLC, Oasis Power Partners, LLC, Eurus Combine Hills I LLC, Eurus Combine Hills II LLC, Crescent Ridge LLC, Spearville 3, LLC, CPV Maryland, LLC, CPV Shore, LLC.

Description: Notice of Non-Material Change in Status of the Eurus MBR Affiliates, et al.

Filed Date: 7/29/16.

Accession Number: 20160729-5274.

Comments Due: 5 p.m. ET 8/19/16.

Docket Numbers: ER16-2328-000.

Applicants: New England Power Company.

Description: § 205(d) Rate Filing: New England Power—Facilities Use Agreement with Deepwater Block Island Wind to be effective 7/28/2016.

Filed Date: 7/29/16.

Accession Number: 20160729-5228.

Comments Due: 5 p.m. ET 8/19/16.

Docket Numbers: ER16-2329-000.

Applicants: PacifiCorp.

Description: Tariff Cancellation: Termination of Clatskanie PUD E&P Agreement ? Troutdale Sub to be effective 10/3/2016.

Filed Date: 7/29/16.

Accession Number: 20160729-5230.

Comments Due: 5 p.m. ET 8/19/16.

Docket Numbers: ER16-2330-000.

Applicants: Southwest Power Pool, Inc.

Description: Petition of Southwest Power Pool, Inc. for Tariff Waiver.

Filed Date: 7/29/16.

Accession Number: 20160729-5284.

Comments Due: 5 p.m. ET 8/19/16.

Docket Numbers: ER16-2332-000.

Applicants: Emera Maine.

Description: § 205(d) Rate Filing: Amend Market-Based Rate Tariff to be effective 7/1/2016.

Filed Date: 8/1/16.

Accession Number: 20160801-5060.

Comments Due: 5 p.m. ET 8/22/16.

Docket Numbers: ER16-2333-000.

Applicants: Emera Energy U.S. Subsidiary No. 1, Inc.

Description: § 205(d) Rate Filing: Amend Market-Based Rate Tariffs to be effective 7/1/2016.

Filed Date: 8/1/16.

Accession Number: 20160801-5062.

Comments Due: 5 p.m. ET 8/22/16.

Docket Numbers: ER16-2334-000.

Applicants: Emera Energy U.S. Subsidiary No. 2, Inc.

Description: § 205(d) Rate Filing: Amend Market-Based Rate Tariff to be effective 7/1/2016.

Filed Date: 8/1/16.

Accession Number: 20160801-5063.

Comments Due: 5 p.m. ET 8/22/16.

Docket Numbers: ER16-2335-000.

Applicants: Emera Energy Services Subsidiary No. 1 LLC.

Description: § 205(d) Rate Filing: Amend Market-Based Rate Tariff to be effective 7/1/2016.

Filed Date: 8/1/16.

Accession Number: 20160801-5066.

Comments Due: 5 p.m. ET 8/22/16.

Docket Numbers: ER16-2336-000.

Applicants: Emera Energy Services Subsidiary No. 2 LLC.

Description: § 205(d) Rate Filing: Amend Market-Based Rate Tariff to be effective 7/1/2016.

Filed Date: 8/1/16.

Accession Number: 20160801-5067.

Comments Due: 5 p.m. ET 8/22/16.

Docket Numbers: ER16-2337-000.

Applicants: Emera Energy Services Subsidiary No. 3 LLC.

Description: § 205(d) Rate Filing: Amend Market-Based Rate Tariff to be effective 7/1/2016.

Filed Date: 8/1/16.

Accession Number: 20160801-5069.

Comments Due: 5 p.m. ET 8/22/16.

Take notice that the Commission received the following electric securities filings:

Docket Numbers: ES16-49-000.

Applicants: New England Power Company.

Description: Application of New England Power Company under Section 204 of the Federal Power Act for Authorization to Issue Securities.

Filed Date: 7/29/16.

Accession Number: 20160729-5275.

Comments Due: 5 p.m. ET 8/19/16.

Take notice that the Commission received the following public utility holding company filings:

Docket Numbers: PH16-10-000.

Applicants: Southern Company Gas.

Description: Southern Company Gas submits FERC 65-A Exemption Notification.

Filed Date: 7/29/16.

Accession Number: 20160729-5240.

Comments Due: 5 p.m. ET 8/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 1, 2016.
Nathaniel J. Davis, Sr.,
Deputy Secretary.

[FR Doc. 2016-18798 Filed 8-8-16; 8:45 am]

BILLING CODE 6717-01-P